DEPARTMENT OF HOMELAND SECURITY

U.S. Citizenship and Immigration Services

Agency Information Collection Activities: Survey of Recently Naturalized Citizens; New Information Collection; Comment Request

ACTION: 60-day notice of information collection under review: survey of recently naturalized citizens.

The Department of Homeland Security, U.S. Citizenship and Immigration Services (USCIS) has submitted the following information collection request for review and clearance in accordance with the Paperwork Reduction Act of 1995. The information collection is published to obtain comments from the public and affected agencies. Comments are encouraged and will be accepted for sixty days until June 8, 2009.

Written comments and suggestions regarding items contained in this notice, and especially with regard to the estimated public burden and associated response time should be directed to the Department of Homeland Security (DHS), USCIS, Chief, Regulatory Management Division, Clearance Office, 111 Massachusetts Avenue, NW., Suite 3008, Washington, DC 20529-2210. Comments may also be submitted to DHS via facsimile to 202-272-8352, or via e-mail at rfs.regs@dhs.gov. When submitting comments by e-mail, add the USCIS File Number (OMB-52) in the subject box.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection:

(1) Type of Information Collection: New Information collection.

(2) Title of the Form/Collection: Survey of Recently Naturalized Citizens.

(3) Agency Form Number, if Any, and the Applicable Component of the Department of Homeland Security Sponsoring the Collection: No agency form number; File No. OMB-52. U.S. Citizenship and Immigration Services.

(4) Affected Public Who Will Be Asked or Required To Respond, as Well as a Brief Abstract: Primary: Individuals or households. USCIS will use this survey to collect data from recently naturalized citizens to help predict future naturalization trends.

(5) An Estimate of the Total Number of Respondents and the Amount of Time Estimated for an Average Respondent To Respond: 7,500 responses (introductory call), one response per respondent, at one (.0333) 2 minutes per response. 5,000 responses (questionnaire), one response per respondent at (0.416) 25 minutes per response.

An Estimate of the Total Public Burden (in Hours) Associated With the Collection: 2,316 annual burden hours.

If you need a copy of the information collection instrument, please visit the USCIS Web site at: http://www.regulations.gov/search/index.jsp.

We may also be contacted at: USCIS, Regulatory Management Division, 111 Massachusetts Avenue, NW., Suite 3008, Washington, DC 20529-2210, telephone number 202-272-8377.

Dated: April 3, 2009.
Stephen Tarragon,
Deputy Chief, Regulatory Management Division, U.S. Citizenship and Immigration Services.

[FR Doc. E9-7918 Filed 4-7-09; 8:45 am]

BILLING CODE 9111-97-P